DEPARTMENT OF TRANSPORTATION

Federal Railroad Administration

[Docket Number FRA-2002-12409]

Petition for Extension of Waiver of Compliance

Under part 211 of title 49 Code of Federal Regulations (CFR), this document provides the public notice that by letter dated July 17, 2024, Port Authority Trans-Hudson Corporation (PATH) petitioned the Federal Railroad Administration (FRA) to extend the existing waiver of compliance from certain provisions of the Federal railroad safety regulations contained at 49 CFR part 238 (Passenger Equipment Safety Standards). The relevant Docket Number is FRA-2002-12409.

Specifically, PATH requests continued relief from § 238.305(c)(10) and (d), Interior calendar day mechanical inspection of passenger cars, and § 238.317(a)(1), Class II brake test, for its fleet of passenger vehicles. PATH seeks an extension of its waiver from the requirement that a car must be removed from service on the day following its calendar day interior mechanical inspection and seeks permission for a car to remain in service up to eight calendar days following notification, so the car can be brought to the PATH running repair or main repair facility. In support of this request, PATH states that “due to the confined geography of the system and limited track storage areas, cutting cars from consists . . . cannot be done during the workday without having significant adverse effect upon passenger service.”

Further, PATH requests continued relief from the requirement to perform a Class II brake test during specific periods of time at terminal locations. PATH explains that terminal dwell times are less than five minutes and “the [c]onductor does not have adequate time to remain at the rear of the train while the [e]ngineer changes operating position to perform the [b]rake [t]est, and then walk forward to the conductor operating position between the first and second car.” In support of its request, PATH states that “the typical train will undergo a Class II test approximately ten times every day.”

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted at www.regulations.gov. Follow the online instructions for submitting comments.

Communications received by October 21, 2024 will be considered by FRA before final action is taken. Comments received after that date will be considered if practicable. Anyone can search the electronic form of any written communications and comments received into any of the U.S. Department of Transportation's (DOT) dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety Chief Safety Officer.

[FR Doc. 2024-18718 Filed 8-20-24; 8:45 am]

BILLING CODE 4910-06-P